DEPARTMENT OF TRANSPORTATION

Federal Aviation Administration

14 CFR Part 39

[Docket No. FAA-2011-0219; Directorate Identifier 2010-NM-228-AD]

RIN 2120-AA64

Airworthiness Directives; The Boeing Company Model 757-200, -200CB, and -300 Series Airplanes

AGENCY: Federal Aviation Administration (FAA), DOT.

ACTION: Notice of proposed rulemaking (NPRM).

SUMMARY: We propose to adopt a new airworthiness directive (AD) for the products listed above. This proposed AD would require modifying the door latch fittings and witness mark placards of the off-wing escape slide systems; and for certain airplanes, replacing the bearings and lockbase retainer in the door latch assembly, relocating and adjusting of the sensor target and the sensor proximity switch, and testing to ensure positive door locking and corrective action if necessary. For certain airplanes, this proposed AD would also require installing a bumper assembly and placards. This proposed AD was prompted by reports of in-flight loss of the off-wing escape slide. We are proposing this AD to prevent in-flight loss of the off-wing escape slide, which could result in the unavailability of the escape slide during a time-critical evacuation. Additionally, the departed slide could cause damage to the fuselage, wing, flaps, or stabilizer, which could degrade flight control.

DATES: We must receive comments on this proposed AD by April 28, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Boeing Commercial Airplanes, Attention: Data & Services Management, P. O. Box 3707, MC 2H-65, Seattle, Washington 98124-2207; phone: 206-544-5000, extension 1; fax: 206-766-5680; e-mail: me.boecom@boeing.com; Internet: ttps://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Kimberly DeVoe, Aerospace Engineer, Cabin Safety and Environmental Systems Branch, ANM-150S, Seattle Aircraft Certification Office (ACO), FAA, 1601 Lind Avenue, SW., Renton, Washington 98057-3356; phone: 425-917-6495; fax: 425-917-6590; e-mail: Kimberly.Devoe@faa.gov.

SUPPLEMENTARY INFORMATION:

Comments Invited

We invite you to send any written relevant data, views, or arguments about this proposal. Send your comments to an address listed under the ADDRESSES section. Include “Docket No. FAA-2011-0219; Directorate Identifier 2010-NM-228-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Since May 2005, four operators have reported seven events of in-flight loss of the off-wing escape slides. The off-wing escape slides did not inflate in flight. Due to latching failures of the compartment doors for the off-wing escape slides, in-flight maneuvering resulted in the departure of the slides from the airplane. The loss of the off-wing escape slide could result in the unavailability of the escape slide during a time-critical evacuation. Additionally, the departed slide could cause damage to the fuselage, wing, flaps, or stabilizer, which could degrade flight control.

Related Rulemaking

To address the in-flight loss of the off-wing escape slide we issued AD 99-17-20, Amendment 39-11266 (64 FR 45436, August 20, 1999), which was based on Boeing Service Bulletin 757-25-0182, Revision 1, dated June 12, 1997; and Boeing Service Bulletin 757-25-0200, dated January 21, 1999. AD 99-17-20 requires modification of the door latch system on the off-wing escape slide compartment and installation of a bumper assembly on the bottom of the off-wing escape slide carriers on certain Model 757-200 and -300 series airplanes. However, it has been shown through service history that more corrective actions, in addition to AD 99-17-20, are needed to correct the unsafe condition.

Relevant Service Information

We reviewed Boeing Special Attention Service Bulletin 757-25-0298, dated October 16, 2008. This service bulletin describes procedures for modifying the forward and aft door latch fittings for the left and right off-wing escape slide systems and modifying the witness mark placards on the maintenance access door frames for the left and right off-wing escape slide systems. Additionally, this service bulletin specifies that the following three service bulletins should be done before or at the same time as Boeing Special Attention Service Bulletin 757-25-0298, dated October 16, 2008.

Boeing Service Bulletin 757-25-0182, Revision 2, dated January 11, 2001, specifies, for airplanes that have not been retrofitted using Boeing Service Bulletin 757-25-0182, dated October 10, 1996; or Boeing Service Bulletin 757-25-0182, Revision 1, dated June 12, 1997; procedures to modify the door latch system of the left and right off-wing emergency evacuation slide systems. The modification includes replacing the bearings and lockbase retainer in the compartment door latch assembly with new bearings and a new lockbase retainer, and relocating and adjusting the sensor target and the sensor proximity switch to forward locations on the evacuation slide compartment doors. For airplanes that have been retrofitted, Boeing Service Bulletin 757-25-0182, Revision 2, dated January 11, 2001, specifies testing to determine that the compartment door sensor, as retrofitted, provides an accurate indication of the door lock condition. For airplanes on which the test indicates that the compartment door is not locking positively, Boeing Service Bulletin 757-25-0182, Revision 2, dated January 11, 2001, specifies that the installed target is replaced with a new target and the switch is remounted on the new bracket.

Boeing Service Bulletin 757-25-0200, Revision 1, dated August 3, 2000 (for Model 757-200 and -200CB series airplanes); and Boeing Special Attention Service Bulletin 757-25-0219, dated August 3, 2000 (for Model 757-300 series airplanes); specify installing a bumper assembly on the left and right off-wing slide carriers, and installing new witness mark and instruction placards in the area of the maintenance access door.

FAA's Determination

We are proposing this AD because we evaluated all the relevant information and determined the unsafe condition described previously is likely to exist or develop in other products of the same type designs.

Proposed AD Requirements

This proposed AD would require accomplishing the actions specified in the service information described previously.

Costs of Compliance

We estimate that this proposed AD will affect 451 airplanes of U.S. registry.

We estimate the following costs to comply with this proposed AD:

Estimated Costs
Action | Labor cost | Parts cost | Cost per product | Cost on U.S. operators
Modification of fittings and placards: Service Bulletin (SB) 757-25-0298 | 7 work-hours × $85 per hour = $595 | $1,365 | $1,960 | $883,960.
Modification: Service Bulletin 757-25-0182 | 40 work-hours × $85 per hour = $3,400 | $2,786 | $6,186 | $1,880,544 (304 airplanes).
Test: Service Bulletin 757-25-0182 | 2 work-hours × $85 per hour = $170 | $0 | $170 | $76,670.
Bumper assembly and placards installation: Service Bulletin 757-25-0200 | 4 work-hours × $85 per hour = $340 | $457 | $797 | $272,574 (342 airplanes).
Bumper assembly and placards installation: Service Bulletin 757-25-0219 | 4 work-hours × $85 per hour = $340 | $457 | $797 | $0 (0 airplanes).

We estimate the following costs to do any necessary replacements that would be required based on the results of the proposed test. We have no way of determining the number of aircraft that might need these replacements.

On-Condition Costs
Action | Labor cost | Parts cost | Cost per product
Replacement and remount; SB 757-25-0182 | 4 work-hours × $85 per hour = $340 | $2,786 | $3,126

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2011-0219; Directorate Identifier 2010-NM-228-AD.

Comments Due Date

(a) We must receive comments by April 28, 2011.

Affected ADs

(b) Certain requirements of this AD affect certain requirements of AD 99-17-20, Amendment 39-11266.

Applicability

(c) This AD applies to The Boeing Company Model 757-200, -200CB, and -300 series airplanes, certificated in any category, as identified in Boeing Special Attention Service Bulletin 757-25-0298, dated October 16, 2008; with off-wing escape slide systems installed.

Subject

(d) Joint Aircraft System Component (JASC)/Air Transport Association (ATA) of America Code 25, Equipment and Furnishings.

Unsafe Condition

(e) This AD was prompted by reports of in-flight loss of the off-wing escape slide. We are issuing this AD to prevent in-flight loss of the off-wing escape slide, which could result in the unavailability of the escape slide during a time-critical evacuation. Additionally, the departed slide could cause damage to the fuselage, wing, flaps, or stabilizer, which could degrade flight control.

Compliance

(f) Comply with this AD within the compliance times specified, unless already done.

Modification

(g) Within 60 months after the effective date of this AD, modify the door latch fittings and witness mark placards of the left and right off-wing escape slide systems, in accordance with the Accomplishment Instructions of Boeing Special Attention Service Bulletin 757-25-0298, dated October 16, 2008.

Concurrent Actions

(h) Concurrently with or before accomplishing the actions specified in paragraph (g) of this AD, do the applicable actions specified in paragraphs (h)(1) and (h)(2) of this AD.

(1) For airplanes that have not been modified by Boeing Service Bulletin 757-25-0182, dated October 10, 1996; or Revision 1, dated June 12, 1997; as of the effective date of this AD: Modify the door latch system of the left and right off-wing emergency evacuation slide systems, in accordance with the Accomplishment Instructions of Boeing Service Bulletin 757-25-0182, Revision 2, dated January 11, 2001.

(2) For airplanes that have been modified by Boeing Service Bulletin 757-25-0182, dated October 10, 1996; or Revision 1, dated June 12, 1997; as of the effective date of this AD: Do a test to verify that the modified compartment door sensor provides an accurate indication of the door lock condition, in accordance with the Accomplishment Instructions of Boeing Service Bulletin 757-25-0182, Revision 2, dated January 11, 2001. If the test indicates that the compartment door is not locking positively, concurrently with or before accomplishing the actions specified in paragraph (g) of this AD, replace the target and remount the switch on the new bracket, in accordance with the Accomplishment Instructions of Boeing Service Bulletin 757-25-0182, Revision 2, dated January 11, 2001.

(i) For airplanes identified in Boeing Service Bulletin 757-25-0200, Revision 1, dated August 3, 2000: Concurrently with or before accomplishing the actions required by paragraph (g) of this AD, install a bumper assembly on the left and right off-wing escape slide carriers, and install new placards in the area of the maintenance access door, in accordance with the Accomplishment Instructions of Boeing Service Bulletin 757-25-0200, Revision 1, dated August 3, 2000.

(j) For airplanes identified in Boeing Special Attention Service Bulletin 757-25-0219, dated August 3, 2000: Concurrently with or before accomplishing the actions required by paragraph (g) of this AD, install a bumper assembly on the left and right off-wing escape slide carriers, and install new placards in the area of the maintenance access door, in accordance with the Accomplishment Instructions of Boeing Special Attention Service Bulletin 757-25-0219, dated August 3, 2000.

Terminating Action for Paragraph (a)(1) of AD 99-17-20

(k) Actions done in accordance with paragraph (h)(1) of this AD terminate the requirements of paragraph (a)(1) of AD 99-17-20.

Terminating Action for Paragraph (a)(2) of AD 99-17-20

(l) Actions done in accordance with paragraph (i) of this AD terminate the corresponding requirements of paragraph (a)(2) of AD 99-17-20.

Credit for Actions Accomplished in Accordance with Previous Service Information

(m) Actions done before the effective date of this AD in accordance with Boeing Service Bulletin 757-25-0200, dated January 21, 1999, are acceptable for compliance with the corresponding requirements of paragraphs (i) and (j) of this AD.

Alternative Methods of Compliance (AMOCs)

(n)(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

Related Information

(o) For more information about this AD, contact Kimberly DeVoe, Aerospace Engineer, Cabin Safety and Environmental Systems Branch, ANM-150S, Seattle Aircraft Certification Office (ACO), FAA, 1601 Lind Avenue SW., Renton, Washington 98057-3356; phone: 425-917-6495; fax: 425-917-6590; e-mail: Kimberly.Devoe@faa.gov.

(p) For service information identified in this AD, contact Boeing Commercial Airplanes, Attention: Data & Services Management, P.O. Box 3707, MC 2H-65, Seattle, Washington 98124-2207; phone: 206-544-5000, extension 1; fax: 206-766-5680; e-mail: me.boecom@boeing.com; Internet: https://www.myboeingfleet.com. You may review copies of the referenced service information at the FAA, Transport Airplane Directorate, 1601 Lind Avenue SW., Renton, Washington. For information on the availability of this material at the FAA, call 425-227-1221.

Issued in Renton, Washington, on March 3, 2011.
Kalene C. Yanamura,
Acting Manager, Transport Airplane Directorate, Aircraft Certification Service.

[FR Doc. 2011-5724 Filed 3-11-11; 8:45 am]

BILLING CODE 4910-13-P